DEPARTMENT OF THE INTERIOR

National Park Service

National Register of Historic Places; Notification of Pending Nominations

Nominations for the following properties being considered for listing in the National Register were received by the National Park Service before February 16, 2002. Pursuant to § 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St.NW, Suite 400, Washington DC 20002; or by fax, 202-343-1836 . Written or faxed comments should be submitted by March 26, 2002.

Carol D. Shull,
Keeper of the National Register of Historic Places.

ARKANSAS

Garland County

Orange Street Presbyterian Church, 428 Orange St., Hot Springs, 02000259

Greene County

Highfill—McClure House, 701 W. Highland St., Paragould, 02000260

Pope County

Pottsville Citizen's Bank, 156 E. Ash St., Pottsville, 02000261

COLORADO

Denver County

Dickinson Branch Library, 1545 Hooker St., Denver, 02000262

Phillips County

Shirley Hotel, 101 S. Colorado Ave., Haxtun, 02000263

FLORIDA

Hillsborough County

North Franklin Street Historic District, Roughly bounded by Florida Ave., E. Fortune, Tampa, Franklin and E. Harrison Sts., Tampa, 02000264

Palm Beach County

Evans, J.B., House, 142 S. Ocean Bvd., Delray Beach, 02000265

Polk County

Interlaken Historic Residential District (Winter Haven, Florida MPS), Roughly bounded by N. Shore Lake Howard, SW. Shore Lake Mirror and Cannon-Howard Canal, Winter Haven, 02000266

LOUISIANA

Bossier Parish

Bossier City Municipal Building, 630 Barksdale Rd., Bossier City, 02000267

East Baton Rouge Parish

Dufrocq School, 330 S. 19th St., Baton Rouge, 02000268

East Feliciana Parish

Clear Creek AME Church, Approx. ½ mi. S. of Jct. LA 961 and LA 432, Felixville, 02000269

MARYLAND

Washington County

Maryland Heights, Spur Battery (Harpers Ferry National Historical Park MPS), Hoffmaster Rd., Sandy Hook, 02000286

MISSOURI

St. Louis Independent City

Moloney Electric Company Building, 1141-1151 S. 7th St., Saint Louis, 02000270

NEBRASKA

Clay County

Inland School (School Buildings in Nebraska MPS), Jct. NWC East Ave. and Edison St., Inland, 02000271

Douglas County

Ackerhurst—Eipperhurst Dairy Barn, 15220 Military Rd., Bennington, 02000272

Wayne County

Wayne Municipal Auditorium, 222 N. Pearl St., Wayne, 02000273

NEW JERSEY

Monmouth County

Camp Evans Historic District, 2201 Marconi Rd. (Wall Township), New Bedford, 02000274

NORTH CAROLINA

Stanly County

Downtown Albemarle Historic District, Portions of S. 2nd, W. Main and N. and S. 1st Sts., Albemarle, 02000275

TEXAS

Harris County

Sam Houston Hotel, 1119 Prairie St., Houston, 02000276

VERMONT

Caledonia County

Ricker Pond State Park (Historic Park Landscapes in National and State Parks MPS), 526 State Forest Rd., Groton, 02000277

Stillwater State Park (Historic Park Landscapes in National and State Parks MPS), 126 Boulder Beach Rd., Groton, 02000278

Lamoille County

Elmore State Park (Historic Park Landscapes in National and State Parks MPS), 856 VT 12, Elmore, 02000279

Orange County

Allis State Park (Historic Park Landscapes in National and State Parks MPS), RR 2, Box 192, Brookfield, 02000280

Windsor County

Coolidge State Park (Historic Park Landscapes in National and State Parks MPS), 855 Coolidge State Park Rd., Plymouth, 02000281

Wilgus State Park,

(Historic Park Landscapes in National and State Parks MPS), 3985 US Route 5, Weatherfield, 02000282

WEST VIRGINIA

Jefferson County

Bollman—Wernwag—Latrobe Bridge (Harpers Ferry National Historical Park MPS), Confluence Potomac and Shenandoah Rs., Harpers Ferry, 02000287

WISCONSIN

Fond Du Lac County

Cole, William I, House, 303 Gillett St., Fond du Lac, 02000283

Kewaunee County

Major Wilbur Fr. Browder (tugboat), Harbor Park, Kilbourn St., Kewaunee, 02000284

Outagamie County

Barteau Bridge, N. of WI 187 crossing of Shioc R., Bovina, 02000285

A request for REMOVAL has been made for the following resource:

NEBRASKA

Douglas County

Jobbers' Canyon Historic District, Roughly bounded by Farnum, Eighth, Jackson, and Tenth Sts. Omaha, 86003408

A request for a MOVE has been made for the following resource:

NEBRASKA

Otoe County

Little Nemaha River Bridge (Highway Bridges in Nebraska MPS), Co. Rd. over the Little Nemaha R., 3 mi. NW of Syracuse, Syracuse, 92000723

[FR Doc. 02-5704 Filed 3-8-02; 8:45 am]

BILLING CODE 4310-70-P